DEPARTMENT OF HOUSING AND URBAN DEVELOPMENT

[Docket No. FR-5386-N-12]

Office of Inspector General; Privacy Act of 1974; Notification of the Office of Inspector General Intent To Consolidate, Update, Delete, and Implement Privacy Act Systems of Records

AGENCY: Office of the Chief Information Office, HUD.

ACTION: Notification of Consolidation, Update, Deletion, and Implementation of Privacy Act Systems of Records.

SUMMARY: Pursuant to the Privacy Act of 1974 (5 U.S.C. 552a), notice is hereby given that HUD's Office of Inspector General (OIG) proposes to consolidate, update and delete Systems of Records (SORs) within its existing repository of SORs, and establish a new SORs to be maintained by the 13 Regional Special Agents in Charge nationwide and the Deputy Assistant Inspector General for Investigations in Washington, D.C. The OIG, pursuant to the Privacy Act of 1974, currently maintains six SORs: (1) Investigative Files of the Office of Inspector General (HUD/OIG-1); (2) Hotline Complaint Files of the Office of Inspector General (HUD/OIG-2); (3) Name Indices System of the Office of Inspector General (HUD/OIG-3); (4) Independent Auditor Monitoring Files of the Office of Inspector General (HUD/OIG-4); (5) Auto Audit of the Office of Inspector General (HUD/OIG-5); and (6) Auto Investigation of the Office of Inspector General (HUD/OIG-6). The notice for these SORs was last published on May 22, 2000 (65 FR 33242). The OIG also proposes to create a seventh system of records, OIG Giglio Information File (HUD/OIG-7). Accordingly, the notice, pursuant to 5 U.S.C. 552a(e)(4) and (11), of the establishment of a new system of records follows: HUD OIG is updating its Giglio Policy and is thereby creating a new system of records for which no public notice consistent with the provisions of 5 U.S.C. section 552(e)(4) and (11) has been published, OIG Giglio Information File, HUD/OIG-7. The file is being created to ensure that, upon the request of a Requesting Official within the Department of Justice, OIG Giglio Officials are able to provide the information necessary to allow the prosecuting attorneys to meet their constitutional obligations under the United States Supreme Court case of Giglio v. United States, 405 U.S. 150 (1972), and the case law following that decision. A new routine use was established for prior 6 SORs effective October 15, 2007, as noticed in the Federal Register on September 14, 2007 (72 FR 52572). The new routine use permits disclosure of records to respond to breach of personally identifiable information. This consolidation refers to that routine uses for all 7 OIG SORs. This consolidation and update amends routine use 3 for HUD/OIG-1, HUD/OIG-2, HUD/OIG-3, HUD/OIG-4, HUD/OIG-5, and HUD/OIG-6 to allow release of records to assist housing authorities who take personnel actions based on an OIG audit or investigation.

An eleventh routine use is added to HUD/OIG-1, HUD/OIG-2, HUD/OIG-3, HUD/OIG/5, and HUD/OIG-6 to allow release of information to licensing authorities regulating professional services, when the records reveal conduct related to activities associated with a HUD program that is appropriate for possible administrative or disciplinary sanctions, such as license revocation.

The OIG has also changed the name of HUD/OIG-6, Autoinvestigation of the Office of Inspector General to HUD/OIG-6 Autoinvestigation and the Case Management Information SubSystem (CMISS), while maintaining the same routine uses and attributes of HUD/OIG-6. CMISS is an updated data system of the investigative case files, formerly maintained in Auto Investigation, which will continue to maintain its information and data. This consolidation also updates routine use 9 due to legislation (IG Reform Act of 2008) enacted in 2008 changing the name of the President's Council on Integrity and Efficiency (PCIE) to the Council of Inspectors General on Integrity and Efficiency (CIGIE) and corrects the disposition schedule.

The OIG also deletes two obsolete SORs from its inventory, the Investigation Files (HUD/DEPT 24) and Audit Planning and Operations systems (HUD/DEPT-77). This notice serves to update the OIG repository of SORs and reflects the current posture of each SOR. Additionally, this notice deletes and supersedes all prior notifications for the SORs referenced in this publication.

DATES: Effective Date: This proposal shall become effective January 28, 2011, unless comments are received on or before that date which would result in a contrary determination.

Comment Due Date: January 28, 2011.

ADDRESSES: Interested persons are invited to submit comments regarding this notice to the Rules Docket Clerk, Office of General Counsel, Room 10276, Department of Housing and Urban Development, 451 7th Street, SW., Washington, DC 20410-0500. Communications should refer to the above docket number and title. Comments submitted by facsimile (FAX) will not be accepted. A copy of each communication submitted will be available for public inspection and copying between 8 a.m. and 5:30 p.m. weekdays at the above address.

FOR FURTHER INFORMATION CONTACT: Donna Robinson-Staton, Chief Privacy Officer, 451 Seventh Street, SW., Room 2256, Washington, DC 20410, Telephone Number (202) 402-8076. For OIG-related information: Richard Johnson, Deputy Counsel to the Inspector General, Office of Inspector General, Telephone Number (202) 708-1613. (These are not toll free numbers.) A telecommunications device for hearing- and speech-impaired persons (TTY) is available at 1-800-877-8339 (Federal Information Relay Services). (This is a toll-free number.)

SUPPLEMENTARY INFORMATION: Title 5 U.S.C. section 552a(e)(4) and (11) provide that the public be given a 30-day period in which to comment on the proposed changes. In accordance with section 5 U.S.C. 552a(r) and the Office of Management and Budget Circular A-130, the Department has provided a report to OMB and the Congress of the proposed consolidation, update, deletion, and Implement of SORs. The report will be submitted to the Office of Management and Budget (OMB), and to the Chair of the Committee on Government Reform and Oversight, and the Chair of the Committee on Homeland Security and Governmental Affairs which requires a 40-day period in which to conclude its review of the submitted report.

Dated: December 20, 2010.
Kevin R. Cooke,
Deputy Chief Information Officer.

HUD/OIG-1

System name:

Investigative Files of the Office of Inspector General.

System location:

HUD OIG Headquarters, Washington, DC.

Categories of individuals covered by the system:

Individuals covered consist of: (1) HUD program participants and HUD employees who are subjects of OIG inquiries or investigations; and (2) complainants and key witnesses where necessary for future retrieval.

Categories of records in the system:

Records consist of investigatory material compiled for law enforcement purposes, and include initial complaints filed against subjects or other information relating to potential violations of law, reports of investigation, findings of HUD officials, and recommendations and dispositions to be made.

Authority for maintenance of the system:

The Inspector General Act of 1978, 5 U.S.C. Appx. authorizes the Inspector General to conduct, supervise and coordinate investigations relating to the programs and operations of HUD.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the CIGIE pursuant to Executive Order 12993, the records may be disclosed to the CIGIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and

c. The disclosure made to such agencies, entities, and persons is reasonably necessary to assist in connection with the Department's efforts to respond to the suspected or confirmed compromise and prevent, minimize, or remedy such harm.

11. Records may be disclosed to private, State or Federal licensing authorities or boards regulating professional services, such as appraisers, attorneys, insurers, or mortgage brokers, when the records reveal conduct related to activities associated with a HUD program that is appropriate for possible administrative or disciplinary sanctions, such as license revocation.

Policies and practices for storing, retrieving, accessing, retaining, and disposing of records in the system:

Storage:

Records are stored manually in file jackets and electronically in office automation equipment.

Retrievability:

Records are retrieved by manual or computer search of indices containing the name of the individual to whom the record pertains.

Safeguards:

Records are maintained in locked file cabinets or in metal file cabinets in secured rooms or premises with access limited to those persons whose official duties require access. Computer terminals are secured in controlled areas which are locked when unoccupied. Access to automated records is limited to authorized personnel who must use a password system to gain access.

Retention and disposal:

Retention and disposal is in accordance with Records Disposition Schedule 3, Items 79-1 to 86, Appendix 3, HUD Handbook 2225.6, Rev. 1.

System manager(s) and address:

Assistant Inspector General, Office of Management and Policy, Office of the Inspector General, Department of Housing and Urban Development, 451 Seventh Street, SW., Room Number 5254, Washington, DC 20410.

Notification procedure:

Records are generally exempt from Privacy Act access. However, the System Manager will give consideration to a request from an individual for notification of whether the system contains records pertaining to that individual.

Record access procedures:

Records are generally exempt from Privacy Act access. However, the System Manager will give consideration to a request from an individual for access to records pertaining to that individual. The procedures for requesting access to records appear in 24 CFR parts 16 and 2003.

Contesting record procedures:

Records are generally exempt from Privacy Act amendment or correction. However, the System Manager will give consideration to a request from an individual for amendment or correction of records pertaining to that individual. The procedures for requesting amendment or correction of records appear in 24 CFR parts 16 and 2003.

Record source categories:

The OIG collects information from a wide variety of sources, including from HUD, law enforcement agencies, program participants, subject individuals, complainants, witnesses and other nongovernmental sources.

Systems exempted from certain provisions of the act:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

HUD/OIG-2

System name:

Hotline Complaint Files of the Office of Inspector General.

System location:

HUD OIG Headquarters, Washington, DC.

Categories of individuals covered by the system:

Individuals covered consist of: (1) HUD program participants and HUD employees who are subjects of hotline complaints alleging possible violations of law, rules or regulations, mismanagement, gross waste of funds, abuse of authority or a substantial and specific danger to the public health and safety; and (2) HUD employees and members of the general public who are complainants.

Categories of records in the system:

Records consist of all forms and documentation generated by the complaint, including recommended and final disposition of the matter.

Authority for maintenance of the system:

The Inspector General Act of 1978, 5 U.S.C. App., authorizes the Inspector General to conduct, supervise and coordinate activities that promote economy and efficiency in the programs and operations of HUD, and to receive and investigate complaints concerning possible violations of law, rules, or regulations, or mismanagement, gross waste of funds, abuse of authority or a substantial and specific danger to the public health or safety.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

11. Records may be disclosed to private, State or Federal licensing authorities or boards regulating professional services, such as appraisers, attorneys, insurers, or mortgage brokers, when the records reveal conduct related to activities associated with a HUD program that is appropriate for possible administrative or disciplinary sanctions, such as license revocation.

Policies and practices for storing, retrieving, accessing, retaining, and disposing of records in the system:

Storage:

Records are stored manually in file jackets and electronically in office automation equipment.

Retrievability:

Records are retrieved by manual or computer search of indices containing the name, home address, home telephone number, and identification number assigned to the individual to whom the record pertains.

Safeguards:

Records are maintained in locked file cabinets or in metal file cabinets in secured rooms or premises with access limited to those persons whose official duties require access. Computer terminals are secured in controlled areas which are locked when unoccupied. Access to automated records is limited to authorized personnel who must use a password system to gain access.

Retention and disposal:

Retention and disposal is in accordance with Records Disposition Schedule 3, Items 79-1 to 86, Appendix 3, HUD Handbook 2225.6, Rev. 1.

System manager(s) and address:

Assistant Inspector General, Office of Management and Policy, Office of the Inspector General, Department of Housing and Urban Development, 451 Seventh Street, SW., Room Number 5254, Washington, DC 20410.

Notification procedure:

Records are generally exempt from Privacy Act access. However, the System Manager will give consideration to a request from an individual for notification of whether the system contains records pertaining to that individual.

Record access procedures:

Records are generally exempt from Privacy Act access. However, the System Manager will give consideration to a request from an individual for access to records pertaining to that individual. The procedures for requesting access to records appear in 24 CFR parts 16 and 2003.

Contesting record procedures:

Records are generally exempt from Privacy Act amendment or correction. However, the System Manager will give consideration to a request from an individual for amendment or correction of records pertaining to that individual. The procedures for requesting amendment or correction of records appear in 24 CFR part 16 and 2003.

Record source categories:

The OIG collects information from a wide variety of sources, including from HUD, the General Accounting Office, other Federal agencies, program participants, subject individuals, complaints, witnesses and other nongovernmental sources.

Systems exempted from certain provisions of the act:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

HUD/OIG-3

System name:

Name Indices System of the Office of Inspector General.

System location: HUD OIG, Headquarters, Washington, DC.

Categories of individuals covered by the system:

Individuals covered consist of HUD program participants and HUD employees who have had some significant association with an OIG investigation, audit report, or hotline complaint.

Categories of records in the system:

Records are contained in a computerized central reference system and can consist of one or more of the following items: Individual's name; alias or associated name; period covered by the audit; date of birth; report date; city and State where the individual is located; Social Security number or employer identification number; and the date the case was closed. This information is cross-referenced to an underlying OIG investigation, audit report, hotline complaint file number, or a departmental suspension/debarment or Mortgagee Review Board action.

Authority for maintenance of the system:

The Inspector General Act of 1978, 5 U.S.C. Appx., authorizes the Inspector General to conduct, supervise and coordinate audits and investigations related to the programs and operations of HUD, to engage in other activities that promote economy and efficiency in the programs and operations of HUD, and to receive and investigate complaints concerning possible violations of law, rules, or regulations, or mismanagement, gross waste of funds, abuse of authority or a substantial and specific danger to the public health or safety.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State, or local agency charged with the responsibility for investigating or prosecuting such violation or enforcing or implementing such statute, rule or regulation.

2. Records may be disclosed to a congressional office in response to an inquiry from that congressional office made at the request of the individual who is the subject of the records.

3. Records may be may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

11. Records may be disclosed to private, State or Federal licensing authorities or boards regulating professional services, such as appraisers, attorneys, insurers, or mortgage brokers, when the records reveal conduct related to activities associated with a HUD program that is appropriate for possible administrative or disciplinary sanctions, such as license revocation.

Policies and practices for storing, retrieving, accessing, retaining, and disposing of records in the system:

Storage:

Records are stored manually in file jackets and electronically in office automation equipment.

Retrievability:

Records are retrieved through computer search or manual search by the name of the individual to whom the record pertains.

Safeguards:

Computer terminals are secured in controlled areas which are locked when unoccupied. Access to records is limited to authorized personnel who must use a password system to gain access.

Retention and disposal:

Retention and disposal is in accordance with Records Disposition Schedule 3 (Administrative Records), Item No. 84, Appendix 3, HUD Handbook 2225.3 Rev. 1.

System manager(s) and address:

Assistant Inspector General, Office of Management and Policy, Office of the Inspector General, Department of Housing and Urban Development, 451 Seventh Street, SW., Room Number 5254, Washington, DC 20410.

Notification procedure:

Records are generally exempt from Privacy Act access. However, the System Manager will give consideration to a request from an individual for notification of whether the system contains records pertaining to that individual.

Record access procedures:

Records are generally exempt from Privacy Act access. However, the System Manager will give consideration to a request from an individual for access to records pertaining to that individual. The procedures for requesting access to records appear in 24 CFR part 16 and 2003.

Contesting record procedures:

Records are generally exempt from Privacy Act amendment or correction. However, the System Manager will give consideration to a request from an individual for amendment or correction of records pertaining to that individual. The procedures for requesting amendment or correction of records appear in 24 CFR part 16 and 2003.

Record source categories:

The OIG collects information from a wide variety of sources, including from HUD, the General Accounting Office, other Federal agencies, program participants, subject individuals, complainants, witnesses and other nongovernmental sources.

Systems exempted from certain provisions of the act:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules promulgated in accordance with the requirements of 5 U.S.C. 553(b), (c) and (e) and have been published in the Federal Register.

HUD/OIG-4

System name:

Independent Auditor Monitoring Files of the Office of Inspector General.

System location:

HUD OIG Headquarters, Cherry Hill, New Jersey.

Categories of individuals covered by the system:

Individuals covered are non-Federal independent auditors who have conducted audits of recipients of Federal funds received under HUD's programs. An independent auditor is: (a) A licensed certified public accountant or a person working for a licensed certified public accounting firm, or (b) a public accountant licensed on or before December 31, 1970, or a person working for a public accounting firm licensed on or before December 31, 1970.

Categories of records in the system:

Records consist of materials generated in connection with quality control reviews of the working papers of independent auditors, including standardized checklists for evaluating an independent auditor's work performance.

Authority for maintenance of the system:

The Inspector General Act of 1978, 5 U.S.C. App., requires the Inspector General to assure that any work performed by non-Federal auditors complies with the auditing standards established by the Comptroller General of the United States for audits of Federal establishments, organizations, programs, activities and functions.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

Policies and practices for storing, retrieving, accessing, retaining, and disposing of records in the system:

Storage:

Records are stored manually in file jackets and electronically in office automation equipment.

Retrievability:

Records are retrieved by manual or computer search of indices containing the name of the individual to whom the record pertains.

Safeguards:

Records are maintained in locked file cabinets or in metal file cabinets in secured rooms or premises with access limited to those persons whose official duties require access. Computer terminals are secured in controlled areas which are locked when unoccupied. Access to automated records is limited to authorized personnel who must use a password system to gain access.

Retention and disposal:

Retention and disposal is in accordance with Records Disposition Schedule 3, Items 79-1 to 86, Appendix 3, HUD Handbook 2225.6, Rev. 1.

System manager(s) and address:

Assistant Inspector General, Office of Management and Policy, Office of the Inspector General, Department of Housing and Urban Development, 451 Seventh Street, SW., Room Number 5254, Washington, DC 20410.

Notification procedure:

The System Manager will accept inquiries from an individual seeking notification of whether the system contains records pertaining to that individual.

Record access procedures:

The procedures for requesting access to records appear in 24 CFR parts 16 and 2003.

Contesting record procedures:

The procedures for requesting amendment or correction of records appear in 24 CFR parts 16 and 2003.

Record source categories:

The OIG collects information from the subject independent auditor, HUD, auditees, program participants, complainants and other nongovernment sources.

Systems exempted from certain provisions of the act:

None.

HUD/OIG-5

System name:

Auto Audit of the Office of Inspector General.

System location:

HUD OIG Headquarters, Washington, DC, District Offices, and Field Offices (Boston, MA; New York City, NY; Philadelphia, PA; Atlanta, GA; Tampa, FL; New Orleans, LA; Kansas City, KS; Chicago, IL; Fort Worth, TX; Los Angeles, CA; Seattle, WA.)

Categories of individuals covered by the system:

Individuals covered consist of: (1) HUD program participants and HUD employees who are associated with an activity that OIG is auditing or reviewing; (2) requesters of an OIG audit or other activity; and (3) persons and entities performing some other role of significance to the OIG's efforts, such as relatives or business associates of HUD program participants or employees, potential witnesses, or persons who represent legal entities that are connected to an OIG audit or other activity. The system also tracks information pertaining to OIG staff handling the audit or other activity, and may contain contact names for relevant staff in other agencies.

Categories of records in the system:

Records consist of materials compiled and/or generated in connection with audits and other activities performed by OIG staff. These materials include information regarding the planning, conduct and resolution of audits and reviews of HUD programs and participants in those programs, internal legal assistance requests, information requests, responses to such requests, reports of findings, etc.

Authority for maintenance of the system:

The Inspector General Act of 1978 (5 U.S.C. App. 3) authorizes the Inspector General to conduct, supervise and coordinate audits and investigations relating to the programs and operations of HUD, to engage in other activities that promote economy and efficiency in the programs and operations of HUD, and to receive and investigate complaints concerning possible violations of law, rules, or regulations, or mismanagement, gross waste of funds, abuse of authority, or a substantial or specific danger to the public health or safety.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure auditing standards applicable to Government audits by the Comptroller General of the United States are applied and followed.

9. In the event that these records respond to an audit, investigation or review, which is conducted pursuant to an authorizing law, rule or regulation, and in particular those conducted at the request of the PCIE pursuant to Executive Order 12993, the records may be disclosed to the PCIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

11. Records may be disclosed to private, State or Federal licensing authorities or boards regulating professional services, such as appraisers, attorneys, insurers, or mortgage brokers, when the records reveal conduct related to activities associated with a HUD program that is appropriate for possible administrative or disciplinary sanctions, such as license revocation.

Policies and practices for storing, retrieving, accessing, retaining, and disposing of records in the system:

Storage:

Records are stored electronically in office automation equipment and manually in file jackets.

Retrievability:

Records are retrieved by computer search of the Auto Audit software, and/or by reference to a particular file number.

Safeguards:

Records are maintained in a secure computer network, and in locked file cabinets or in metal file cabinets in rooms with controlled access.

Retention and disposal:

Retention and disposal is in accordance with (1) Records Disposition Schedule 3 (Administrative Records), Item Nos. 79-1 to 86, Appendix 3, HUD Handbook 2225.6 Rev 1; and (2) General Records Schedules, Appendix 22 (Inspector General Records), HUD Handbook 2228.2 Rev. 4.

System manager(s) and address:

Assistant Inspector General for Audit, Office of Management and Policy, Office of the Inspector General, Department of Housing and Urban Development, 451 Seventh Street, SW., Room Number 5254, Washington, DC 20410.

Notification procedure:

The System Manager will accept inquiries from individuals seeking notification of whether the system contains records pertaining to them.

Record access procedures:

The procedures for requesting access to records appear in 24 CFR parts 16 and 2003.

Contesting record procedures:

The procedures for requesting amendment or correction of records appear in 24 CFR parts 16 and 2003.

Record source categories:

The OIG collects information from a wide variety of sources, including from HUD, other Federal agencies, the General Accounting Office (GAO), law enforcement agencies, program participants, subject individuals, complainants, witnesses and other non-governmental sources.

Exemptions from certain provisions of the act:

None.

HUD/OIG-6

System name:

Auto Investigation and Case Management Information Subsystem (AI/CMISS).

System location:

HUD OIG Headquarters, Washington, DC (Boston, MA; New York City, NY; Philadelphia, PA; Baltimore, MD; Atlanta, GA; Tampa, FL; New Orleans, LA; Kansas City, KS; Chicago, IL; Cleveland, OH; Fort Worth, TX; Los Angeles, CA; Seattle, WA.)

Categories of individuals covered by the system:

Individuals covered consist of: (1) HUD program participants and HUD employees who are associated with an activity that OIG is investigating or evaluating; (2) requesters of an OIG investigative or other activity; and (3) persons and entities performing some other role of significance to the OIG's efforts, such as relatives or business associates of HUD program participants or employees, potential witnesses, or persons who represent legal entities that are connected to an OIG investigation or other activity. The system also tracks information pertaining to OIG staff handling the investigation or other activity, and may contain contact names for relevant staff in other agencies.

Categories of records in the system:

Records consist of investigatory material compiled and/or generated for law enforcement purposes in connection with investigations and other activities performed by OIG staff. These materials include information regarding the planning, conduct and prosecution of investigations of HUD program participants and employees, legal assistance requests, information requests, responses to such requests, reports of investigations, etc. Data resources include the individual's name, Social Security Number, date of birth, home address, home telephone number, personal e-mail address, Employee Identification Number, Tax Identification, Driver License Number and name, passport information, State Identification, Narcotics and Dangerous Drugs Information System, Federal Bureau Investigation Number; Race/ethnicity, Gender, Employment History, Education, Income, and Financial information.

Authority for maintenance of the system:

The Inspector General Act of 1978 authorizes the Inspector General to conduct, supervise and coordinate audits and investigations relating to the programs and operations of HUD, to engage in other activities that promote economy and efficiency in the programs and operations of HUD, and to receive and investigate complaints concerning possible violations of law, rules, or regulations, or mismanagement, gross waste of funds, abuse of authority, or a substantial or specific danger to the public health or safety.

Purposes:

AI/CMISS provides HUD OIG Investigations with an automated system which manages cases under investigation from their inception to their closing through a centralized data repository of case information. AI/CMISS and its environment is a secure environment where access to information is controlled through a formal process of checks and authorizations involving a hierarchical supervisory structure. Special Agents in Charge (SAC), Assistant Special Agents in Charge (ASAC), Supervisory Forensic Auditors (SFA), Forensic Auditors (FA), Special Agents (SA) and support staff, document all steps in their assigned activities. Additionally, due to judicial involvement in some of the cases, the files kept and maintained by HUD OIG may be made available to the courts under discovery. AI/CMISS provides data that is currently available through the intranet to the investigators and auditors. This provides a method for remote HUD OIG users and traveling employees to access the AI/CMISS systems from their laptops regardless of whether or not they are located within a HUD OIG office. Both Systems support the HUD OIG requirement to maintain a detailed audit trail of cases to closure. This requires a system, which will be capable of capturing and maintaining data integrity during the complete case cycle while ensuring data privacy and confidentiality.

Routine uses of records maintained in the system, including categories of users and the purposes of such uses:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, State, or local agency charged with the responsibility for investigating or prosecuting such violation or enforcing or implementing such statute, rule, or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided it an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other Federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

11. Records may be disclosed to private, State or Federal licensing authorities or boards regulating professional services, such as appraisers, attorneys, insurers, or mortgage brokers, when the records reveal conduct related to activities associated with a HUD program that is appropriate for possible administrative or disciplinary sanctions, such as license revocation.

Policies and practices for storing, retrieving, accessing, retaining, and disposing of records in the system:

Storage:

Records are stored electronically in office automation equipment and manually in file jackets.

Retrievability:

Records are retrieved by computer search of the Auto Investigation or CMISS software by reference to individual's name, Social Security Number, Employee Identification Number, Tax Identification, Driver License Number and name, passport information, State Identification, Narcotics and Dangerous Drugs Information System, or Federal Bureau Investigation Number, and/or by reference to a particular file number.

Safeguards:

Records are maintained in a secure computer network, and in locked file cabinets or in metal file cabinets in rooms with controlled access.

Retention and disposal:

Retention and disposal is in accordance with (1) Records Disposition Schedule 3 (Administrative Records), Item Nos. 79-1 to 86, Appendix 3, HUD Handbook 2225.6 Rev. 1; and (2) General Records Schedules, Appendix 22 (Inspector General Records), HUD Handbook 2228.2 Rev. 4.

System manager(s) and address:

Assistant Inspector General for Investigation, Office of the Inspector General, Department of Housing and Urban Development, 451 Seventh Street, SW., Washington, DC 20410.

Notification procedure:

Records are generally exempt from Privacy Act access. However, the System Manager will accept and give consideration to a request from an individual for notification of whether the system contains records pertaining to that individual.

Record access procedures:

Records are generally exempt from Privacy Act access. However, the System Manager will accept and give consideration to a request from an individual for access to records pertaining to that individual. The procedures for requesting access to records appear in 24 CFR parts 16 and 2003.

Contesting record procedures:

Records are generally exempt from Privacy Act amendment or correction. However, the System Manager will accept and give consideration to a request from an individual for amendment or correction of records pertaining to that individual that are indexed and retrieved by reference to that individual's name and/or social security number. The procedures for requesting amendment or correction of records appear in 24 CFR parts 16 and 2003.

Record source categories:

The OIG collects information from a wide variety of sources, including from HUD, other Federal agencies, GAO, law enforcement agencies, program participants, subject individuals, complainants, witnesses and other non-governmental sources.

Exemptions from certain provisions of the act:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled or generated for law enforcement purposes, has been exempted from the requirements of subsections (c)(3), (d)(1), (d)(2) and (e)(1) of the Privacy Act pursuant to 5 U.S.C. 552a(k)(2). Finally, this system of records, to the extent that it consists of investigatory material compiled or generated for the purpose of determining suitability, eligibility, or qualifications for Federal civilian employment or Federal contracts, the release of which would reveal the identity of a source who furnished information to the government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

HUD/OIG-7

System Name:

OIG Giglio Information Files.

System Location:

The offices of Special Agents in Charge and Regional Inspectors General for Audit nationwide and the office of the Deputy Assistant Inspector General for Investigations and Deputy Assistant Inspector General for Audit, all identified as Giglio Officials in the OIG Giglio Policy (Boston, MA; New York City, NY; Philadelphia, PA; Baltimore, MD; Atlanta, GA; Tampa, FL; New Orleans, LA; Kansas City, KS; Chicago, IL; Cleveland, OH; Fort Worth, TX; Los Angeles, CA; Seattle, WA.).

Categories of Individuals Covered by the System:

Individuals who may serve as affiants or testify as witnesses in criminal proceedings brought by the U.S. Department of Justice. All OIG employees are potential witnesses or affiants in Federal criminal prosecutions brought in connection with the work of OIG. Categories of Records in the System: This system contains potential witness impeachment information including records of disciplinary actions. Records will include, but are not limited to: (a) Specific instances of witness conduct that may be used for the purpose of attacking the witness' credibility or character for truthfulness; (b) evidence in the form of opinion as to a witness' character or reputation for truthfulness; (c) prior inconsistent statements; and (d) information that may be used to suggest that a witness is biased. The system may also contain any judicial rulings, related pleadings, correspondence, or memoranda pertaining to a relevant criminal case.

Authority for Maintenance of the System:

The Inspector General Act of 1978 (5 U.S.C. App. 3) authorizes the Inspector General to conduct, supervise and coordinate audits and investigations relating to the programs and operations of HUD, and to receive and investigate complaints concerning possible violations of law, rules, or regulations, or mismanagement, gross waste of funds, abuse of authority, or a substantial or specific danger to the public health or safety. These activities can require OIG employees to testify in Federal criminal prosecution.

Purpose of the System:

This system has been established to enable OIG Giglio Officials (Special Agents in Charge and Regional Inspectors General for Audit nationwide and the office of the Deputy Assistant Inspector General for Investigations and Deputy Assistant Inspector General for Audit) to maintain and disclose records of potential impeachment information on OIG employees who are expected to testify in criminal cases as required by the case law following Giglio. It permits the OIG Giglio Officals to acquire, maintain, and disclose for law enforcement purposes, records relating to impeachment information on OIG employees. It permits the OIG offices identified above to obtain information from Federal and State agencies and personnel records and to maintain and disclose for law enforcement purposes records of impeachment information that is material to the defense of Federal criminal prosecutions. Primary users of this system will be OIG Giglio Officials, who are the regional Special Agents in Charge and Regional Inspectors General for Audit nationwide and the office of the Deputy Assistant Inspector General for Investigations and Deputy Assistant Inspector General for Audit. Secondary users will be Requesting Officials within the Department of Justice, who are senior officials serving as the points of contact concerning potential impeachment information within each of the United States Attorneys' offices, and Assistant United States Attorneys who are prosecuting cases and have an obligation to disclose impeachment material under the Giglio decision.

Routine uses of records maintained in the system, including categories of users and the purposes of such uses:

In addition to those disclosures generally permitted under subsection (b) of the Privacy Act of 1974, 5 U.S.C. 552a(b), records may also be disclosed routinely to other users under the following circumstances:

A record maintained in this system of records may be disseminated as a routine use of such record as follows:

(a) Upon request by a Requesting Official within the Department of Justice or a United States Attorney's office, to the Requesting Official, as defined in the United States Attorney's Manual, Title 9, paragraph 5.100, for the United States Attorney for each district (see Appendix USA-999 or EOUSA Internet addresses at http://www.usdoj.gov/eousa) to be used in accordance with that policy.

(b) A record will be provided to a court and/or defense attorney in satisfaction of the prosecuting attorneys' obligations under the Giglio decision and the case law following that decision.

(c) To the Department of Justice (including United States Attorney Offices) or other Federal agency conducting litigation or in proceedings before any court, adjudicative or administrative body when it is necessary to the litigation and one of the following is a party to the litigation or has an interest in such litigation:

1. HUD or HUD OIG or any component of either;

2. Any employee of OIG in his/her official capacity;

3. Any employee of OIG in his/her individual capacity where the Department of Justice has agreed to represent the employee; or

4. The United States or any agency thereof, is a party to the litigation or has an interest in such litigation, and HUD OIG determines that the records are both relevant and necessary to the litigation and the use of such records is compatible with the purpose for which OIG collected the records.

(d) In any case in which there is an indication of a violation or potential violation of law, criminal or regulatory in nature, the record in question may be disseminated to the appropriate Federal, State, local, or foreign agency charged with the responsibility for investigating or prosecuting such violation or charged with enforcing or implementing the law;

(e) In the course of investigating any potential or actual violation of any law, criminal, civil, or regulatory in nature, or during the course of a trial or hearing or the preparation for a trial or hearing for such violation, a record may be disseminated to a Federal, State, local, or foreign agency, or to an individual or organization, if there is reason to believe that such agency, individual, or organization possesses information relating to the investigation, trial, or hearing and the dissemination is reasonably necessary to elicit such information or to obtain the cooperation of a witness or an informant;

(f) A record relating to a case or matter may be disseminated in an appropriate Federal, State, local, or foreign court or grand jury proceeding in accordance with established constitutional, substantive, or procedural law or practice;

(g) Subject to the limitations of 28 CFR 50.2, regarding the release of information during the pendency of criminal trials, and after a determination that release of the specific record in the context of a particular case would not constitute an unwarranted invasion of personal privacy, a record may be disseminated to the news media and public;

(h) Records not otherwise required to be released pursuant to 5 U.S.C. 552a may be made available to a Member of Congress or staff acting upon the Member's behalf when the Member or staff requests information on behalf of and at the request of the individual who is the subject of the record;

(i) A record may be disclosed as a routine use to the National Archives and Records Administration (NARA) and to the General Services Administration (GSA) in records management inspections conducted under the authority of 44 U.S.C. 2904 and 2906.

(j) Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

Policies and practices for storing, retrieving, accessing, retaining, and disposing of records in the system:

Storage:

Generally, all records are recorded on basic paper/cardboard material and stored in file folders in file cabinets. Some Giglio Officials may maintain the records in electronic format available through the Giglio Official's computer terminal.

Retrievability:

Records are retrieved primarily by the name of the prospective witness. Identify the other means for retrieving records from the system. A record within this system of records may be accessed by the Giglio Official and provided to the Requesting Official.

Safeguards:

Records in the system are confidential and are located in file cabinets in the offices of the Special Agents in Charge or Deputy Assistant Inspector General for Investigations. Offices are locked during non-working hours and are secured by either the Federal Protective Service or in a private building with controlled access. The ability to access electronically is restricted to those who have a valid ID and password. Authorized access is limited to those with a need-to-know and for the appropriate functions.

Retention and disposal:

Records are to be retained and disposed of in accordance with agency retention plans is in accordance with Records Disposition Schedule 3, Items 79-1 to 86, Appendix 3, HUD Handbook 2225.6, Rev. 1, and the OIG Giglio Policy, which states “Upon transfer or reassignment of the employee within OIG, the Giglio file will be forwarded to the Giglio Official at the employee's new duty station. Upon retirement, resignation, or transfer, the employee's Giglio file will be destroyed and anyone with a copy of the file will be informed to destroy their file on the employee.”

System manager(s) and address:

System Manager for the system in each office is the OIG Giglio Official, defined in the OIG Giglio Policy as the Special Agent in Charge for each region and the Deputy Assistant Inspector General for Investigations. Point of Contact is the Assistant Inspector General for Investigation, Office of the Inspector General, Department of Housing and Urban Development, 451 Seventh Street, SW., Washington, DC 20410.

Notification procedures:

Records are generally exempt from Privacy Act access. However, the System Manager will accept and give consideration to a request from an individual for notification of whether the system contains records pertaining to that individual. Address inquiries to the System Managers listed above.

Record Access Procedures:

Pursuant to 5 U.S.C. 552a(j)(2) and (k)(2), this record system has been exempted from the access provisions in 5 U.S.C. 552a(d). However, the System Manager will accept and give consideration to a request from an individual for access to records pertaining to that individual that are indexed and retrieved by reference to that individual's name and/or social security number. The procedures for requesting access to records appear in 24 CFR parts 16 and 2003.

Contesting Records Procedure:

Pursuant to 5 U.S.C. 552a(j)(2) and (k)(2), this record system has been exempted from the record contesting provisions in 5 U.S.C. 552a(d)(3)-(4). However, the System Manager will accept and give consideration to a request from an individual for amendment or correction of records pertaining to that individual that are indexed and retrieved by reference to that individual's name and/or social security number. The procedures for requesting amendment or correction of records appear in 24 CFR part 16 and 2003.

Records Source Categories:

Sources of records contained in this system include, but are not limited to, reports of Federal, State and local law enforcement agencies; official personnel files, reports by investigative agencies; data, memoranda and reports from the Court and agencies; and pleadings and other documents relevant to the court proceedings in particular cases. The OIG collects information from a wide variety of sources, including other Federal agencies, law enforcement agencies, program participants, subject individuals, complainants, witnesses and other non-governmental sources.

System Exempted From Certain Provision of the Act:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled or generated for law enforcement purposes, has been exempted from the requirements of subsections (c)(3), (d)(1), (d)(2) and (e)(1) of the Privacy Act pursuant to 5 U.S.C. 552a(k)(2). Finally, this system of records, to the extent that it consists of investigatory material compiled or generated for the purpose of determining suitability, eligibility, or qualifications for Federal civilian employment or Federal contracts, the release of which would reveal the identity of a source who furnished information to the government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

[FR Doc. 2010-32769 Filed 12-28-10; 8:45 am]

BILLING CODE 4210-67-P